DEPARTMENT OF AGRICULTURE

Animal and Plant Health Inspection Service

[Docket No. APHIS-2010-0046]

Multi-Agency Informational Meeting Concerning Compliance With the Federal Select Agent Program; Public Meeting

AGENCY: Animal and Plant Health Inspection Service, USDA.

ACTION: Notice of public meeting.

SUMMARY: This is to notify all interested parties, including individuals and entities possessing, using, or transferring biological agents and toxins listed in 7 CFR 331.3, 9 CFR 121.3 and 121.4, or 42 CFR 73.3 and 73.4, that a meeting will be held to provide regulatory guidance related to the Federal Select Agent Program established under the Public Health Security and Bioterrorism Preparedness and Response Act of 2002. The meeting is being organized by the U.S. Department of Agriculture’s Animal and Plant Health Inspection Service, the Department of Health and Human Services’ Centers for Disease Control and Prevention, and the Department of Justice’s Federal Bureau of Investigation. Issues to be discussed include entity registration, security risk assessments, biosafety requirements, and security measures.

DATES: The meeting will be held on June 15, 2010, from 8 a.m. to 6 p.m. Persons who wish to attend the meeting must register by May 15, 2010.

ADDRESSES: The meeting will be held at John Ascuaga’s Nugget Hotel, 1100 Nugget Avenue, Sparks, NV.

FOR FURTHER INFORMATION CONTACT: APHIS: Ms. Sherylyn Roberson, Veterinary Permit Examiner, APHIS Select Agent Program, VS, ASAP, APHIS, 4700 River Road Unit 2, Riverdale, MD 20737-1236; (301) 734-5960.

CDC: Dr. Alia Legaux, Public Health Advisor/Inspector, Division of Select Agents and Toxins, CDC, 1600 Clifton Road MS A-46, Atlanta, GA 30333; (404) 718-2000.

SUPPLEMENTARY INFORMATION: Title II of the Public Health Security and Bioterrorism Preparedness and Response Act of 2002, “Enhancing Controls on Dangerous Biological Agents and Toxins” (sections 201 through 231), provides for the regulation of certain biological agents and toxins by the Department of Health and Human Services (subtitle A, sections 201-204) and the Department of Agriculture (subtitle B, sections 211-213), and provides for interagency coordination between the two departments regarding overlap agents and toxins (subtitle C, section 221). For the Department of Health and Human Services, the Centers for Disease Control and Prevention (CDC) has been designated as the agency with primary responsibility for implementing the provisions of the Act; the Animal and Plant Health Inspection Service (APHIS) is the agency fulfilling that role for the Department of Agriculture. CDC and APHIS list select agents and toxins in 42 CFR 73.3 and 73.4, 7 CFR 331.3, and 9 CFR 121.3 and 121.4, respectively. The Federal Bureau of Investigation’s (FBI) Criminal Justice Information Service conducts security risk assessments of all individuals and nongovernmental entities that request to possess, use, or transfer select agents and toxins.

The meeting announced here is an opportunity for the regulated community (i.e., registered entity responsible officials, alternate responsible officials, and entity owners) and other interested individuals to obtain specific regulatory guidance and information on standards concerning biosafety and biosecurity issues related to the Federal Select Agent Program. Representatives from CDC, APHIS, and the FBI will be present at the meeting to address questions and concerns. Entity registration, security risk assessments, biosafety requirements, and security measures are among the issues that will be discussed.

All attendees must register in advance of the meeting. Interested parties may call 1-800-648-1177 to register. In addition, registration forms are available on the Internet at (http://www.selectagents.gov). All registration forms must be submitted by May 15, 2010.

Travel directions to John Ascuaga’s Nugget Hotel are available on the Internet at (http://janugget.travelscream.com/map). RTC RIDE Route 21 (from RTC Centennial Plaza) serves the hotel.

If you require special accommodations, such as a sign language interpreter, please call or write one of the individuals listed under FOR FURTHER INFORMATION CONTACT.

Done in Washington, DC, this 27th day of April 2010.

Kevin Shea
Acting Administrator, Animal and Plant Health Inspection Service.

[FR Doc. 2010-10277 Filed 4-30-10; 8:45 am]

BILLING CODE 3410-34-S